DEPARTMENT OF DEFENSE

Office of the Secretary

[Docket ID: DoD-2022-OS-0010]

Submission for OMB Review; Comment Request

AGENCY: Office of the Under Secretary of Defense for Personnel and Readiness (OUSD(P&R)), Department of Defense (DoD).

ACTION: 30-Day information collection notice.

SUMMARY: The Department of Defense has submitted to OMB for clearance the following proposal for collection of information under the provisions of the Paperwork Reduction Act.

DATES: Consideration will be given to all comments received by May 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Armed Forces Workplace and Equal Opportunity Survey; OMB Control Number 0704-WEOS.

Type of Request: Regular.

Number of Respondents: 62,100.

Responses per Respondent: 1.

Annual Responses: 62,100.

Average Burden per Response: 30 minutes.

Annual Burden Hours: 31,050 hours.

Needs and Uses: The statutory requirements direct the DoD to conduct surveys to solicit information on racial and ethnic issues, including issues relating to harassment, discrimination, and the climate in the Armed Forces for forming professional relationships among members of various racial and ethnic groups. Specifically, surveys conducted under Title 10 U.S.C. 481 shall be conducted to solicit information on the following:

• Indicators of positive and negative trends for professional and personal relationships among members of all racial and ethnic groups.

• The effectiveness of DoD policies designed to improve relationships among all racial and ethnic groups.

• The effectiveness of current processes for complaints on, and investigations into, racial and ethnic discrimination.

Moreover, in the 2020 National Defense Authorization Act (NDAA) as modified by the 2021 NDAA, the DoD was further directed to conduct a survey to assess whether or not military members witnessed or experienced extremism in their workplace, as well as whether or not those experiences were reported. To reduce survey burden, the Department identified the Workplace and Equal Opportunity (WEO) survey as the most appropriate existing survey vehicle to collect this information. As such, the 2022 WEO survey will be the first survey to collect and report on this new statutory requirement. Prior to including the new exposure to extremism metric on the 2022 WEO, the Department engaged in a year-long robust metric development and validation study to ensure results are collected consistently, and also to ensure results accurately measure the experiences required by law and IAW DoDI 1325.06 which define prohibited extremist activities for military members. The statutory and policy requirements for the WEO can be found in the following:

• FY03 NDAA

• FY20 NDAA, Section 593

• FY21 NDAA, Section 553

• 10 U.S.C., Section 481

• 10 U.S.C., Section 136

• 10 U.S.C., Section 1782

• 10 U.S.C., Section 2358

• DoD Instruction (DoDI) 1100.13, “Surveys of DoD Personnel”

• DoD Instruction (DoDI) 1350.02, “DoD Military Equal Opportunity Program”

• Immediate Actions to Improve Diversity & Inclusion (Esper, 2020)

Overall, the results of the survey will assess progress, identify shortfalls, and revise policies and programs as needed, related to issues directly affecting military members. Data from this survey will be presented to the OUSD(P&R), Congress, and DoD policy and program offices to assess and improve policies, programs, practices, and training related to racial/ethnic relations in the Armed Forces informed by current and statistically reliable information. Analysis will include the Office of People Analytics' standard products: An executive report highlighting key findings, a trends/tabulations report (a set of relative frequency distributions of each question, and cross-tabulations of survey questions by key stratifying variables), briefing slides, and a statistical methodology report. Ad hoc analyses requested by the policy office sponsors and other approved organizations may be conducted and published as needed and based on available staff.

Affected Public: Individuals or households.

Frequency: Biennially.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: April 4, 2022.
Aaron T. Siegel,
Alternate OSD Federal Register Liaison Officer, Department of Defense.

[FR Doc. 2022-07703 Filed 4-8-22; 8:45 am]

BILLING CODE 5001-06-P